DEPARTMENT OF JUSTICE

Notice of Proposed Settlement Agreement Under the Comprehensive Environmental Response, Compensation and Liability Act

On January 18, 2022, the Department of Justice signed a proposed Settlement Agreement among the United States, Commonwealth of Kentucky, Nami Resources Company, L.L.C., and Vinland Energy, LLC related to the release of fracking fluids into Acorn Fork, in Knox County, Kentucky. The Settlement Agreement requires the defendant to pay $576,206.27, in three installments, to the U.S. Department of the Interior and $6,016.89 to the Kentucky Energy and Environment Cabinet.

The publication of this notice opens a period for public comment on the Settlement Agreement. Comments should be addressed to the Assistant Attorney General, Environment and Natural Resources Division, and should refer to Settlement Agreement among the United States, Commonwealth of Kentucky, Nami Resources Company, L.L.C., and Vinland Energy, LLC, D.J. Ref. No. 90-11-3-10010. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined at and downloaded from this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $4.50 (25 cents per page reproduction cost) payable to the United States Treasury.

Lori Jonas,
Assistant Section Chief, Environmental Enforcement Section, Environment and Natural Resources Division.

[FR Doc. 2022-01356 Filed 1-24-22; 8:45 am]

BILLING CODE 4410-15-P